ENVIRONMENTAL PROTECTION AGENCY

[FRL-7377-6]

Agency Information Collection Activities: Submission for OMB Review; Comment Request; NSPS for Equipment Leaks of VOC in Petroleum Refineries

AGENCY: Environmental Protection Agency (EPA).

ACTION: Notice.

SUMMARY: In compliance with the Paperwork Recution Action (44 U.SC. 3501 et seq.), this document announces that the following Information Collection Request (ICR) has been forwarded to the Office of Management and Budget (OMB) for review and approval: NSPS for Equipment Leaks of VOC in Petroleum Refineries—Subpart GGG, OMB Control Number 2060-0067; expiring October 31, 2002. The ICR describes the nature of the information collection and its expected burden and cost; where appropriate, it includes the actual data collection instrument.

DATES: Comments must be submitted on or before October 17, 2002.

ADDRESSES: Send comments, referencing EPA ICR No. 0983.07 and OMB Control No. 2060-0067, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epa.gov, or download off the Internet at http://www.epa.gov/icr and refer to EPA ICR No. 0983.07. For technical questions about the ICR contact Dan Chadwick at (202) 564-7054.

SUPPLEMENTARY INFORMATION: Title: NSPS for Equipment Leaks of VOC in Petroleum Refineries—Subpart GGG, OMB Control No. 2060-0067; EPA ICR No. 0983.07, expiration date October 31, 2002. This is a request for extension of a currently approved collection.

Abstract: The New Source Performance Standards (NSPS) for Equipment Leaks of Volatile Organic Compounds (VOC) in Petroleum Refineries were proposed on January 4, 1983 and promulgated on May 30, 1984. These standards apply to the following facilities in petroleum refineries: compressors and the group of all equipment (e.g. valves, pumps, flanges, etc.) within a process unit in VOC service, commencing construction or reconstruction after the date of proposal. This information is being collected to assure compliance with 40 CFR part 60, subpart GGG.

Owners or operators of the affected facilities described must make one-time-only notifications. Owners or operators are also required to maintain records of the occurrence and duration of any startup, shutdown, or malfunction in the operation of an affected facility, or any period during which the monitoring system is inoperative. Monitoring requirements specific to Equipment Leaks of VOC in Petroleum Refineries provide information on which components are leaking VOCs. NSPS subpart GGG references the compliance requirements of NSPS subpart VV. Owners or operators are required to periodically (time period varies depending on equipment type and leak history) record information identifying leaking equipment, repair methods used to stop the leaks and dates of repair. Semiannual reports are required to measure compliance with the standards of NSPS subpart VV as referenced by NSPS subpart GGG . These notifications, reports, and records are essential in determining compliance; and are required, in general, of all sources subject to NSPS. Any owner or operator subject to the provisions of this part shall maintain a file of these measurements, and retain the file for at least two years following the date of such measurements, maintenance reports, and records.

All reports are sent to the delegated State or Local authority. In the event that there is no such delegated authority, the reports are sent directly to the EPA Regional Office. Responses to this information collection are mandatory. Section 111 of the Clean Air Act as Amended provide EPA with the authority for NSPS standards; 40 CFR part 60, NSPS subpart GGG, requires the collection of the emissions data.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 30, 2002, (67 FR 4421); no comments were received.

Burden Statement: The annual public reporting and recordkeeping burden for this collection of information is estimated to average 57 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of petroleum refineries.

Estimated Number of Respondents: 48.

Frequency of Response: Initial, weekly, monthly, quarterly, semiannual.

Estimated Total Annual Hour Burden: 6,137 hours.

Estimated Total Annualized Capital, and O&M Cost Burden: $0.

Send comments on the Agency's need for this information, the accuracy of the provided burden estimates, and any suggested methods for minimizing respondent burden, including through the use of automated collection techniques to the addresses listed above. Please refer to EPA ICR No. 0983.07 and OMB Control No. 2060-0067 in any correspondence.

Dated: August 23, 2002.
Oscar Morales,
Director, Collection Strategies Division.

[FR Doc. 02-23591 Filed 9-16-02; 8:45 am]

BILLING CODE 6560-50-P